DEPARTMENT OF THE TREASURY

Internal Revenue Service

Open Meeting of the Taxpayer Advocacy Panel Taxpayer Communications Project Committee

AGENCY: Internal Revenue Service (IRS), Treasury.

ACTION: Notice of meeting.

SUMMARY: An open meeting of the Taxpayer Advocacy Panel's Taxpayer Communications Project Committee will be conducted. The Taxpayer Advocacy Panel is soliciting public comments, ideas, and suggestions on improving customer service at the Internal Revenue Service. Due to the staff and members being in travel status and an urgent office relocation, we will not be able to meet the 15-calendar notice threshold. This meeting will be held via teleconference.

DATES: The meeting will be held Thursday, June 8, 2023.

FOR FURTHER INFORMATION CONTACT: Conchata Holloway at 1-888-912-1227 or 214-413-6550.

SUPPLEMENTARY INFORMATION: Notice is hereby given pursuant to section 10(a)(2) of the Federal Advisory Committee Act, 5 U.S.C. app. (1988) that a meeting of the Taxpayer Advocacy Panel Taxpayer Communications Project Committee will be held Thursday, June 8, 2023, at 12:00 p.m. Eastern Time. The public is invited to make oral comments or submit written statements for consideration. Due to limited time and structure of meeting, notification of intent to participate must be made with Conchata Holloway. For more information, please contact Conchata Holloway at 1-888-912-1227 or 214-413-6550, or write TAP Office, 1114 Commerce St MC 1005, Dallas, TX 75242 or contact us at the website: http://www.improveirs.org. The agenda includes a committee discussion involving subcommittee 1 Issue 54250; Increase E-filing of Forms/Tax Returns; and Issue 48294 Entities with multiple EIN's. Subcommittee 2 Issue 66193; and effectively measuring outreach.

Dated: May 31, 2023.
Kevin Brown,
Acting Director, Taxpayer Advocacy Panel.

[FR Doc. 2023-11951 Filed 6-5-23; 8:45 am]

BILLING CODE 4830-01-P